DEPARTMENT OF THE INTERIOR

Fish and Wildlife Service

50 CFR Part 17

RIN 1018-AI61

Endangered and Threatened Wildlife and Plants; Listing the Sonoma County Distinct Population Segment of the California Tiger Salamander as Endangered

AGENCY: Fish and Wildlife Service, Interior.

ACTION: Proposed rule; extension of comment period and notice of public hearing.

SUMMARY: We, the Fish and Wildlife Service (Service), provide notice that we are holding a public hearing for the proposed rule to list the Sonoma County Distinct Population Segment of the California tiger salamander (Ambystoma californiense) as endangered under the authority of the Endangered Species Act of 1973, as amended. We are also giving notice that the comment period for the proposed rule for this species is being extended to hold the public hearing and to allow all interested parties to submit written comments on the proposal. Comments previously submitted on the proposed rule need not be resubmitted as they will be fully considered in the final determination.

DATES: We will hold a public hearing from 1 to 3 p.m. and from 6 to 8 p.m. in Santa Rosa, CA, on October 1, 2002. The comment period, which originally closed on September 20, 2002, will now close on October 21, 2002, at 5 p.m.

ADDRESSES: The public hearing will be held at the Courtyard by Marriott, 175 Railroad Street, Santa Rosa, CA. Comments and materials concerning this proposal should be sent to Wayne S. White, Field Supervisor, ATTN: CTS, Sacramento Fish and Wildlife Office, U.S. Fish and Wildlife Service, 2800 Cottage Way Room W-2605, Sacramento, CA 95825. Written comments may also be sent by facsimile to 916/414-6713 or through the internet to fw1sccaliforniatiger@r1.fws.gov. You may also hand-deliver written comments to our Sacramento Fish and Wildlife Office, at the above address. Comments and materials received, as well as supporting documentation used in the preparation of this proposed rule, will be available for public inspection, by appointment, during normal business hours, at the above address. You may obtain copies of the proposed rule from the above address, by calling 916/414-6600, or from our Web site at http://sacramento.fws.gov.

FOR FURTHER INFORMATION CONTACT: David Wooten, Amy LaVoie, or Chris Nagano, Sacramento Fish and Wildlife Office, 2800 Cottage Way Room W-2605, Sacramento, CA 95825 (telephone 916/414-6600, facsimile 916/414-6713 or visit our Web site at http://sacramento.fws.gov/). Information regarding this proposal is available in alternative formats upon request.

SUPPLEMENTARY INFORMATION:

Background

This Distinct Population Segment of the California tiger salamander is restricted to a portion of the Santa Rosa Plain in Sonoma County, CA, extending from approximately Santa Rosa south to the Cotati area. The factors imperiling this animal in Sonoma County include habitat destruction, degradation, and fragmentation, collection, invasive exotic species, and inadequate regulatory mechanisms. This Distinct Population Segment also is vulnerable to chance environmental or demographic events, to which small populations are particularly vulnerable.

Pursuant to the Endangered Species Act of 1973, as amended (16 U.S.C. 1531 et seq.) (Act), we published an emergency rule to list the Sonoma County Distinct Population Segment of the California tiger salamander as endangered on July 22, 2002 (67 FR 47726). The emergency rule provides immediate Federal protection to this Distinct Population Segment for a period of 240 days. This immediate Federal protection expires on March 19, 2003. We also published a proposed rule on July 22, 2002, to list the Sonoma County Distinct Population Segment of the California tiger salamander as endangered under our normal listing procedures (67 FR 47758).

For further information regarding background biological information, previous Federal actions, factors affecting the subspecies, and conservation measures available to the Sonoma County Distinct Population Segment of the California tiger salamander, please refer to our emergency and proposed rules published in the Federal Register on July 22, 2002.

The original comment period was due to close on September 20, 2002. In order to accommodate the hearing, we are extending the comment period. Written comments may now be submitted until October 21, 2002, at 5 p.m.

Anyone wishing to make an oral statement for the record is encouraged to provide a written copy of their statement and present it to us at the hearing. In the event there is a large attendance, the time allotted for oral statements may be limited. Oral and written statements receive equal consideration. There are no limits to the length of written comments presented at the hearing or mailed to us. Legal notices announcing the date, time, and location of the public hearing will be published in newspapers concurrently with this Federal Register notice.

Persons needing reasonable accommodations in order to attend and participate in the public hearing should contact Patti Carroll at 503/231-2080 as soon as possible. In order to allow sufficient time to process requests, please call no later than one week before the hearing date.

Public Comments Solicited

We solicit additional information and comments that may assist us in making a final decision on the proposed rule to list the Sonoma County Distinct Population Segment of the California tiger salamander as endangered. We intend that any final listing action resulting from our proposal will be as accurate and effective as possible. Therefore, we request comments and additional information from the general public, other concerned governmental agencies, the scientific community, industry, or any other interested party concerning this proposed rule. Comments are particularly sought concerning:

(1) Biological, commercial trade, or other relevant data concerning any threat (or lack thereof) to the Sonoma County Distinct Population Segment of the California tiger salamander;

(2) The location of any additional breeding sites of this Distinct Population Segment, and the reasons why any habitat should or should not be determined to be critical habitat pursuant to section 4 of the Act;

(3) Additional information concerning the range, biology, ecology, or population size of this Distinct Population Segment, and

(4) Current or planned activities or land use practices in the subject area and their possible impacts on this species in Sonoma County.

Previously submitted written comments on this proposal need not be resubmitted. If you submit comments by e-mail, please submit them in ASCII file format and avoid the use of special characters and encryption. Please include “Attn: CTS” and your name and return address in your e-mail message. If you do not receive a confirmation from our system that we have received your e-mail message, contact us directly by calling our Sacramento Fish and Wildlife Office at telephone number 916/414-6600. Comments and materials received will be available for public inspection, by appointment, during normal business hours at the Sacramento Fish and Wildlife Office (see ADDRESSES).

Author

The primary author of this notice is Chris Nagano, Sacramento Fish and Wildlife Office (see ADDRESSES).

Authority

The authority for this action is the Endangered Species Act of 1973 (16 U.S.C. 1531 et seq.)

Dated: August 13, 2002.
Steve Williams,
Director, Fish and Wildlife Service.

[FR Doc. 02-21628 Filed 8-23-02; 8:45 am]

BILLING CODE 4310-55-P